ENVIRONMENTAL PROTECTION AGENCY

40 CFR Part 180

[EPA-HQ-OPP-2021-0356; FRL-9839-02-OCSPP]

Spiropidion; Pesticide Tolerances; Technical Correction

AGENCY: Environmental Protection Agency (EPA).

ACTION: Final rule; technical correction and amendment.

SUMMARY: EPA issued a final rule in the Federal Register of July 20, 2022, establishing tolerances for residues of the insecticide spiropidion and its metabolites and degradates in or on multiple commodities requested by Syngenta Crop Protection, LLC under the Federal Food, Drug, and Cosmetic Act (FIFRA). That document inadvertently misstated the nomenclature listed for the residue definition of the spiropidion metabolite SYN547305. This document corrects the noted error in the referenced regulation.

DATES: This final rule correction is effective May 17, 2023.

ADDRESSES: The docket for this action, identified by docket identification (ID) number EPA-HQ-OPP-2021-0356, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744. For the latest status information on EPA/DC services, docket access, visit https://www.epa.gov/dockets.

FOR FURTHER INFORMATION CONTACT: Charles Smith, Director, Registration Division (7505T), Office of Pesticide Programs, Environmental Protection Agency, 1200 Pennsylvania Ave. NW, Washington, DC 20460-0001; main telephone number: (202) 566-1030; email address: RDFRNotices@epa.gov.

SUPPLEMENTARY INFORMATION:

I. Does this action apply to me?

The Agency included in the July 20, 2022, final rule a list of those who may be potentially affected by this action.

II. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment since this correction is not a substantive change at all, just a technical change. EPA has determined that there is good cause for making this technical correction final without prior proposal and opportunity for comment, because EPA is correcting the inadvertent error in the listing for the nomenclature for the residue definition of the spiropidion metabolite SYN547305. EPA finds that this constitutes good cause under 5 U.S.C. 553(b)(3)(B). This technical change does not create any new regulatory requirements that affected parties would need time to prepare for since it is just a correction of a technical error.

III. Do any of the statutory and executive order reviews apply to this action?

No. For a detailed discussion concerning the statutory and executive order review, refer to Unit VI. of the July 20, 2022, final rule.

IV. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

V. What does this technical correction do?

FR Doc. 2022-15410 published in the Federal Register of July 20, 2022 (87 FR 43214) (FRL-9389-01-OCSPP) is corrected as follows:

1. On page 43215, first column, under the heading “Summary of Petitioned-For Tolerance,” paragraph 1, lines 16-17, revise “[3-(4-chloro-2,6-dimethyl-phenyl)-8-methoxy-1-methyl-1,8-diazaspiro[4.5]decane-2,4-dione; and 2-(4-chloro-2,6-dimethyl-phenyl)-1-hydroxy-8-methoxy-4-methyl-4,8-diazaspiro[4.5]dec-1-en-3-one]” to read “[3-(4-chloro-2,6-dimethylphenyl)-4-hydroxy-8-methoxy-1-methyl-1,8-diazaspiro[4.5]dec-3-en-2-one]”.

2. On page 43218, third column, under the heading “Conclusion,” paragraph 1, lines 23-25, revise “[3-(4-chloro-2,6-dimethyl-phenyl)-8-methoxy-1-methyl-1,8-diazaspiro[4.5]decane-2,4-dione; and 2-(4-chloro-2,6-dimethyl-phenyl)-1-hydroxy-8-methoxy-4-methyl-4,8-diazaspiro[4.5]dec-1-en-3-one]” to read “[3-(4-chloro-2,6-dimethylphenyl)-4-hydroxy-8-methoxy-1-methyl-1,8-diazaspiro[4.5]dec-3-en-2-one]”.

3. On page 43218, third column, under the heading “Conclusion,” paragraph 1, lines 34-37, revise “[3-(4-chloro-2,6-dimethyl-phenyl)-8-methoxy-1-methyl-1,8-diazaspiro[4.5]decane-2,4-dione; and 2-(4-chloro-2,6-dimethyl-phenyl)-1-hydroxy-8-methoxy-4-methyl-4,8-diazaspiro[4.5]dec-1-en-3-one]” to read “[3-(4-chloro-2,6-dimethylphenyl)-4-hydroxy-8-

List of Subjects in 40 CFR Part 180

Environmental protection, Administrative practice and procedure, Agricultural commodities, Pesticides and pests, Reporting and recordkeeping requirements.

Dated: May 9, 2023.
Charles Smith,
Director, Registration Division, Office of Pesticide Programs.

Therefore, 40 CFR part 180 is corrected by making the following correcting amendments:

PART 180—TOLERANCES AND EXEMPTIONS FOR PESTICIDE CHEMICAL RESIDUES IN FOOD

1. The authority citation for part 180 continues to read as follows:

Authority: 21 U.S.C. 321(q), 346a and 371.

§ 180.723 Spiropidion; tolerances for residues.

2. In § 180.723:

a. Amend paragraph (a)(1) by revising “SYN547305 [3-(4-chloro-2,6-dimethyl-phenyl)-8-methoxy-1-methyl-1,8-diazaspiro[4.5]decane-2,4-dione; and 2-(4-chloro-2,6-dimethyl-phenyl)-1-hydroxy-8-methoxy-4-methyl-4,8-diazaspiro[4.5]dec-1-en-3-one],” to read as “SYN547305 [3-(4-chloro-2,6-dimethylphenyl)-4-hydroxy-8-methoxy-1-methyl-1,8-diazaspiro[4.5]dec-3-en-2-one]”; and

b. Amend paragraph (a)(2) by revising “SYN547305 [3-(4-chloro-2,6- dimethyl-phenyl)-8-methoxy-1-methyl- 1,8-diazaspiro[4.5]decane-2,4-dione; and 2-(4-chloro-2,6-dimethyl-phenyl)-1- hydroxy-8-methoxy-4-methyl-4,8- diazaspiro[4.5]dec-1-en-3-one],” to read as “SYN547305 [3-(4-chloro-2,6-dimethylphenyl)-4-hydroxy-8-methoxy-1-methyl-1,8-diazaspiro[4.5]dec-3-en-2-one]”.

[FR Doc. 2023-10153 Filed 5-16-23; 8:45 am]

BILLING CODE 6560-50-P